DEPARTMENT OF VETERANS AFFAIRS

38 CFR Part 21

RIN 2900-AL17

Increase in Rates Payable Under the Montgomery GI Bill—Active Duty and Survivors' and Dependents' Educational Assistance Program

AGENCY: Department of Veterans Affairs.

ACTION: Final rule.

SUMMARY: This document amends the regulations governing rates of educational assistance payable under the Montgomery GI Bill—Active Duty and Survivors' and Dependents' Educational Assistance programs to reflect increases required by statutory provisions. These include increases that were effective October 1, 2001, and January 1, 2002, in both programs. For the Montgomery GI Bill—Active Duty program, these also include increases for the fiscal years beginning October 1, 2002, and October 1, 2003, under statutory provisions setting rates that for those two years are not to be adjusted by the Consumer Price Index-W.

DATES: Effective Date: This final rule is effective June 9, 2003.

Applicability Dates: The changes in rates are applied to conform to the respective statutory requirements. For more information concerning the dates of applicability, see the SUPPLEMENTARY INFORMATION section.

FOR FURTHER INFORMATION CONTACT: Lynn M. Cossette, Education Advisor, Education Service, Veterans Benefit Administration, (202) 273-7294.

SUPPLEMENTARY INFORMATION: Under the formula mandated by 38 U.S.C. 3015 (as in effect on October 1, 2001) for Fiscal Year 2002, the rates of basic educational assistance under the Montgomery GI Bill—Active Duty (MGIB) payable to students pursuing a program of education full time were increased effective October 1, 2001, by 3.4%, which is the percentage by which the total of the monthly Consumer Price Index-W (CPI-W) for July 1, 2000, through June 30, 2001, exceeds the total of the monthly CPI-W for July 1, 1999, through June 30, 2000.

In addition, the Veterans Education and Benefits Expansion Act of 2001 (Pub. L. 107-103) increased the monthly rate of MGIB benefits in three steps. The effective date of step one is January 1, 2002. Step two is effective October 1, 2002, for Fiscal Year 2003 and step three is effective October 1, 2003, for Fiscal Year 2004. During Fiscal Years 2003 and 2004, the MGIB rates are not adjusted by the CPI-W, since this statute removes the authority to adjust by the CPI-W for those two years. CPI-W adjustments will resume October 1, 2004, with the beginning of Fiscal Year 2005. We are changing the regulations governing rates payable under the MGIB to reflect the increase effective October 1, 2001, attributable to the CPI-W and the step increases provided for in Pub. L. 107-103.

It should be noted that these MGIB increases do not affect all educational assistance payable under the MGIB. The increases don't apply to additional amounts payable by the Secretary of Defense to individuals with skills or a specialty in which there is a critical shortage of personnel (so-called “kickers”). They don't apply to amounts payable for dependents. Veterans who previously had eligibility under the Veterans' Educational Assistance program (Vietnam Era GI Bill) receive monthly payments that are in part based upon basic educational assistance and in part based upon the rates payable under the Vietnam Era GI Bill. Only that portion attributable to basic educational assistance is increased.

38 U.S.C. 3015(a) and (b) require that the Department of Veterans Affairs (VA) pay part-time students at appropriately reduced rates. Since the first student became eligible for assistance under the MGIB in 1985, VA has paid three-quarter-time students and one-half-time students at 75% and 50% of the full-time institutional rate, respectively. Students pursuing a program of education at less than one-half but more than one-quarter time have had their payments limited to 50% or less of the full-time institutional rate. Similarly, students pursuing a program of education at one-quarter time or less have had their payments limited to 25% or less of the full-time institutional rate. Changes are made consistent with the authority and formula described in this paragraph.

In addition, 38 U.S.C. 3032(c) requires that monthly rates payable to veterans in apprenticeship or other on-the-job training must be set at a given percentage of the full-time rate. Hence, we are changing those regulations to reflect increases effective October 1, 2001, January 1, 2002, October 1, 2002, and October 1, 2003, in accordance with the increase attributable to the CPI-W and the applicable provisions of Pub. L. 107-103.

By statute, the monthly rates of basic educational assistance payable under the Survivors' and Dependents' Educational Assistance (DEA) program must be adjusted each fiscal year. In accordance with the statutory formula, the regulations governing rates of educational assistance payable under the DEA program for Fiscal Year 2002 (October 1, 2001, through September 30, 2002) are changed to show a 3.4% increase in these rates. The 3.4% increase is based on the percentage by which the total of the monthly CPI-W for July 1, 2000, through June 30, 2001, exceeds the total of the monthly CPI-W for July 1, 1999, through June 30, 2000.

Pub. L. 107-103 further increased the DEA program rates for the months during Fiscal Year 2002 that follow December 2001. That Act provides that beginning on January 1, 2002, the rates of basic educational assistance under the DEA program must be increased beyond the increase that went into effect on October 1, 2001. Changes are made to the regulations governing rates payable under the DEA program to reflect both rate increases.

Nonsubstantive changes also are made for the purpose of clarity.

The changes set forth in this final rule are effective from the date of publication, but the changes in the rates are applied in accordance with the applicable statutory provisions discussed above.

Administrative Procedure Act

Substantive changes made by this final rule merely reflect statutory requirements and adjustments made based on previously established formulas. Accordingly, there is a basis for dispensing with prior notice and comment and delayed effective date provisions of 5 U.S.C. 552 and 553.

Executive Order 12866

This document has been reviewed by the Office of Management and Budget under Executive Order 12866.

Paperwork Reduction Act

This document contains no provisions constituting a collection of information under the Paperwork Reduction Act (44 U.S.C. 3501-3521).

Regulatory Flexibility Act

The initial and final regulatory flexibility analyses requirements of sections 603 and 604 of the Regulatory Flexibility Act, 5 U.S.C. 601-612, are not applicable to this rule, because the agency is not required to publish a notice of proposed rulemaking for this rule. Even so, the Secretary of Veterans Affairs hereby certifies that this final rule will not have a significant economic impact on a substantial number of small entities as they are defined in the Regulatory Flexibility Act. This final rule directly affects only individuals and does not directly affect small entities. Therefore, this final rule is also exempt pursuant to 5 U.S.C. 605(b) from the initial and final regulatory flexibility analyses requirements of sections 603 and 604.

Unfunded Mandates

The Unfunded Mandates Reform Act requires, at 2 U.S.C. 1532, that agencies prepare an assessment of anticipated costs and benefits before developing any rule that may result in an expenditure by State, local, or tribal governments, in the aggregate, or by the private sector, of $100 million or more in any given year. This rule will have no consequential effect on State, local or tribal governments.

Catalog of Federal Domestic Assistance Program Numbers

The Catalog of Federal Domestic Assistance numbers for the programs affected by this final rule are 64.117 and 64.124.

List of Subjects in 38 CFR Part 21

Administrative practice and procedure, Armed Forces, Civil rights, Claims, Colleges and universities, Conflict of interests, Defense Department, Education, Employment, Grant programs-education, Grant programs-veterans, Health programs, Loan programs-education, Loan programs-veterans, Manpower training programs, Reporting and recordkeeping requirements, Schools, Travel and transportation expenses, Veterans, Vocational education, Vocational rehabilitation.

Approved: March 7, 2003.
Anthony J. Principi,
Secretary of Veterans Affairs.

For the reasons set out above, 38 CFR part 21 (subparts C and K) is amended as follows:

PART 21—VOCATIONAL REHABILITATION AND EDUCATION

Subpart C—Survivors' and Dependents' Educational Assistance Under 38 U.S.C. Chapter 35

1. The authority citation for part 21, subpart C, continues to read as follows:

Authority: 38 U.S.C. 501(a), 512, 3500-3566, unless otherwise noted.

2. In § 21.3045, paragraph (h) is revised to read as follows:

§ 21.3045 Entitlement charges.

* * * * *

(h) Entitlement charge for correspondence courses. The charge against entitlement of a spouse or surviving spouse for pursuit of a course exclusively by correspondence will be 1 month for each of the following amounts paid as an educational assistance allowance:

(1) $588 paid after October 31, 2000, and before October 1, 2001;

(2) $608 paid after September 30, 2001, and before January 1, 2002; and

(3) $670 paid after December 31, 2001.

(Authority: 38 U.S.C. 3534(b), 3564, 3686(a)).

* * * * *

3. Section 21.3131 is amended by:

a. Revising paragraph (a)

b. Redesignating paragraphs (b), (c), and (d) as paragraphs (c), (d), and (e), respectively.

c. Adding a new paragraph (b).

The revision and addition read as follows:

§ 21.3131 Rates—educational assistance allowance—38 U.S.C. chapter 35.

(a) Rates. Except as provided in § 21.3132, educational assistance allowance is payable at the following rates for pursuit of education or training that occurs after September 30, 2001, and before January 1, 2002:

Type of course | Monthly rate
Institutional:
Full time | $608.00
¾ time | 456.00
½ time | 304.00
Less than ½ but more than ¼ time ¹ | 304.00
¼ time or less ¹ | 152.00
Cooperative training (other than farm cooperative) (Full time only)
Apprenticeship or on-the-job (full time only) ²: | 608.00
First six months | 443.00
Second six months | 331.00
Third six months | 219.00
Fourth six months and thereafter | 111.00
Farm cooperative:
Full time | 491.00
¾ time | 368.00
½ time | 246.00
Correspondence | 55 percent of the established charge for the number of lessons completed by the eligible spouse or surviving spouse and serviced by the school—Allowance paid quarterly ³
¹ If an eligible person under 38 U.S.C. chapter 35 pursuing independent study on a less than one-half-time basis completes his or her program before the designated completion time, his or her award will be recomputed to permit payment of tuition and fees not to exceed $304.00 or $152.00, as appropriate, per month, if the maximum allowance is not initially authorized.
² See footnote 5 of § 21.4270(c) for measurement of full time and § 21.3132(c) for proportionate reduction in award for completion of less than 120 hours per month.
³ Established charge means the charge for the course or courses determined on the basis of the lowest extended time payment plan offered by the institution and approved by the appropriate State approving agency or the actual cost to the eligible spouse or surviving spouse, whichever is less. VA considers the continuity of an enrollment broken when there are more than 6 months between the servicing of the lessons.

(Authority: 38 U.S.C. 3532(a), 3542(a), 3687(b)(2), (d))

(b) Rates. Except as provided in § 21.3132, educational assistance allowance is payable at the following rates for pursuit of education or training that occurs after December 31, 2001, and before October 1, 2002:

Type of course | Monthly rate
Institutional:
Full time | $670.00
¾ time | 503.00
½ time | 335.00
Less than ½ but more than ¼ time ¹ | 335.00
¼ time or less ¹ | 167.50
Cooperative training (other than farm cooperative) (Full time only)
Apprenticeship or on-the-job (full time only) ²:
First six months | 488.00
Second six months | 365.00
Third six months | 242.00
Fourth six months and thereafter | 122.00
Farm cooperative:
Full time | 541.00
¾ time | 406.00
½ time | 271.00
Correspondence | 55 percent of the established charge for the number of lessons completed by the eligible spouse or surviving spouse and serviced by the school—Allowance paid quarterly ³
¹ If an eligible person under 38 U.S.C. chapter 35 pursuing independent study on a less than one-half-time basis completes his or her program before the designated completion time, his or her award will be recomputed to permit payment of tuition and fees not to exceed $335.00 or $167.50, as appropriate, per month, if the maximum allowance is not initially authorized.
² See footnote 5 of § 21.4270(c) for measurement of full time and § 21.3132(c) for proportionate reduction in award for completion of less than 120 hours per month.
³ Established charge means the charge for the course or courses determined on the basis of the lowest extended time payment plan offered by the institution and approved by the appropriate State approving agency or the actual cost to the eligible spouse or surviving spouse, whichever is less. VA considers the continuity of an enrollment broken when there are more than 6 months between the servicing of the lessons.

(Authority: 38 U.S.C. 3532(a), 3542(a), 3687(b)(2), (d))

* * * * *

4. In § 21.3300, paragraph (c) is revised to read as follows:

§ 21.3300 Special restorative training.

* * * * *

(c) Duration of special restorative training. VA may provide special restorative training in excess of 45 months where an additional period of time is needed to complete the training. Entitlement, including any authorized in excess of 45 months, may be expended through an accelerated program requiring a rate of payment for tuition and fees in excess of—

(1) $190.00 a month for the period beginning October 1, 2001, and ending December 31, 2001;

(2) $210.00 a month for months after December 31, 2001.

(Authority: 38 U.S.C. 3541(b), 3542)

* * * * *

5. Section 21.3333 is amended by:

a. Revising paragraph (a).

b. In paragraph (b)(1), removing “Effective November 1, 2000”; removing “$19.60” and adding, in its place, “$20.28”; and removing “$588” and adding, in its place, “$608.00 for the period October 1, 2001, through December 31, 2001, and for each $22.33 that the special training allowance exceeds the basic monthly rate of $670.00 for months beginning January 1, 2002”.

The revision reads as follows:

§ 21.3333 Rates.

(a) Rates. Special training allowance is payable at the following monthly rates, except as provided in paragraph (c) of this section.

(1) For special restorative training that occurs after September 30, 2001, and before January 1, 2002.

Course | Monthly rate | Accelerated charges
Special restorative training | $608.00 | If costs for tuition and fees average in excess of $190.00 per month, rate may be increased by such amount in excess of $190.00.

(Authority: 38 U.S.C. 3542)

(2) For special restorative training that occurs after December 31, 2002:

Course | Monthly rate | Accelerated charges
Special restorative training | $670.00 | If costs for tuition and fees average in excess of $210.00 per month, rate may be increased by such amount in excess of $210.00.

(Authority: 38 U.S.C. 3542)

* * * * *

Subpart K—All Volunteer Force Educational Assistance Program (Montgomery GI Bill—Active Duty)

6. The authority citation for part 21, subpart K, continues to read as follows:

Authority: 38 U.S.C. 501(a), chs. 30, 36, unless otherwise noted.

7. Section 21.7136 is amended by:

a. Revising paragraphs (b) and (c)(1) through (c)(5).

b. Adding paragraphs (c)(6) through (c)(9).

The revisions and additions read as follows:

§ 21.7136 Rates of payment of basic educational assistance.

* * * * *

(b) Rates. (1) Except as elsewhere provided in this section or in § 21.7139, the monthly rate of basic educational assistance payable for training that occurs after September 30, 2001, and before January 1, 2002, to a veteran whose service is described in paragraph (a) of this section is the rate stated in the following table:

Training | Monthly rate
Full time | $672.00
¾ time | 504.00
½ time | 336.00
Less than ½ time but more than ¼ time | 336.00
¼ time | 168.00

(Authority: 38 U.S.C. 3015)

(2) Except as elsewhere provided in this section or in § 21.7139, the monthly rate of basic educational assistance payable for training that occurs after December 31, 2001, and before October 1, 2002, to a veteran whose service is described in paragraph (a) of this section is the rate stated in the following table:

Training | Monthly rate
Full time | $800.00
¾ time | 600.00
½ time | 400.00
Less than ½ but more than ¼ time | 400.00
¼ time or less | 200.00

(Authority: 38 U.S.C. 3015)

(3) Except as elsewhere provided in this section or in § 21.7139, the monthly rate of basic educational assistance payable for training that occurs after September 30, 2002, and before October 1, 2003, to a veteran whose service is described in paragraph (a) of this section is the rate stated in the following table:

Training | Monthly rate
Full time | $900.00
¾ time | 675.00
½ time | 450.00
Less than ½ but more than ¼ time | 450.00
¼ time or less | 225.00

(Authority: 38 U.S.C. 3015)

(4) Except as elsewhere provided in this section or in § 21.7139, the monthly rate of basic educational assistance payable for training that occurs after September 30, 2003, and before October 1, 2004, to a veteran whose service is described in paragraph (a) of this section is the rate stated in the following table:

Training | Monthly rate
Full time | $985.00
¾ time | 738.75
½ time | 492.50
Less than ½ but more than ¼ time | 492.50
¼ time or less | 246.25

(Authority: 38 U.S.C. 3015)

(5) If a veteran's service is described in paragraph (a) of this section, the monthly rate of basic educational assistance payable to the veteran for pursuit of apprenticeship or other on-the-job training that occurs after September 30, 2001, and before January 1, 2002, is the rate stated in the following table:

Training period | Monthly rate
First six months of training | $504.00
Second six months of training | 369.60
Remaining pursuit of training | 235.20

(Authority: 38 U.S.C. 3015, 3032(c))

(6) If a veteran's service is described in paragraph (a) of this section, the monthly rate of basic educational assistance payable to the veteran for pursuit of apprenticeship or other on-the-job training that occurs after December 31, 2001, and before October 1, 2002, is the rate stated in the following table:

Training period | Monthly rate
First six months of training | $600.00
Second six months of training | 440.00
Remaining pursuit of training | 280.00

(Authority: 38 U.S.C. 3015, 3032(c))

(7) If a veteran's service is described in paragraph (a) of this section, the monthly rate of basic educational assistance payable to the veteran for pursuit of apprenticeship or other on-the-job training that occurs after September 30, 2002, and before October 1, 2003, is the rate stated in the following table:

Training period | Monthly rate
First six months of training | $675.00
Second six months of training | 495.00
Remaining pursuit of training | 315.00

(Authority: 38 U.S.C. 3015, 3032(c))

(8) If a veteran's service is described in paragraph (a) of this section, the monthly rate of basic educational assistance payable to the veteran for pursuit of apprenticeship or other on-the-job training that occurs after September 30, 2003, and before October 1, 2004, is the rate stated in the following table:

Training period | Monthly rate
First six months of training | $738.75
Second six months of training | 541.75
Remaining pursuit of training | 344.75

(Authority: 38 U.S.C. 3015, 3032(c))

(9) If a veteran's service is described in paragraph (a) of this section, the monthly rate of basic educational assistance payable to the veteran for pursuit of a cooperative course is:

(i) $672.00 for training that occurs after September 30, 2001, and before January 1, 2002;

(ii) $800.00 for training that occurs after December 31, 2001, and before

October 1, 2002;

(iii) $900.00 for training that occurs after September 30, 2002, and before October 1, 2003; and

(iv) $985.00 for training that occurs after September 30, 2003, and before

October 1, 2004.

(Authority: 38 U.S.C. 3015)

(c) * * *

(1) Except as elsewhere provided in this section or in § 21.7139, the monthly rate of basic educational assistance payable to a veteran for training that occurs after September 30, 2001, and before January 1, 2002, is the rate stated in the following table:

Training | Monthly rate
Full time | $546.00
¾ time | 409.50
½ time | 273.00
Less than ½ but more than ¼ time | 273.00
¼ time or less | 136.50

(Authority: 38 U.S.C. 3015)

(2) Except as elsewhere provided in this section or in § 21.7139, the monthly rate of basic educational assistance payable to a veteran for training that occurs after December 31, 2001, and before October 1, 2002, is the rate stated in the following table:

Training | Monthly rate
Full time | $650.00
¾ time | 487.50
½ time | 325.00
Less than ½ but more than ¼ time | 325.00
¼ time or less | 162.50

(Authority: 38 U.S.C. 3015)

(3) Except as elsewhere provided in this section or in § 21.7139, the monthly rate of basic educational assistance payable to a veteran for training that occurs after September 30, 2002, and before October 1, 2003, is the rate stated in the following table:

Training | Monthly rate
Full time | $732.00
¾ time | 549.00
½ time | 366.00
Less than ½ but more than ¼ time | 366.00
¼ time or less | 183.00

(Authority: 38 U.S.C. 3015)

(4) Except as elsewhere provided in this section or in § 21.7139, the monthly rate of basic educational assistance payable to a veteran for training that occurs after September 30, 2003, and before October 1, 2004, is the rate stated in the following table:

Training | Monthly rate
Full time | $800.00
¾ time | 600.00
½ time | 400.00
Less than ½ but more than ¼ time | 400.00
¼ time or less | 200.00

(Authority: 38 U.S.C. 3015)

(5) The monthly rate of basic educational assistance payable to a veteran for pursuit of apprenticeship or other on-the-job training that occurs after September 30, 2001, and before January 1, 2002, is the rate stated in the following table:

Training | Monthly rate
First six months of training | $409.50
Second six months of training | 300.30
Remaining pursuit of training | 191.10

(Authority: 38 U.S.C. 3015, 3032(c))

(6) The monthly rate of basic educational assistance payable to a veteran for pursuit of apprenticeship or other on-the-job training that occurs after December 31, 2001, and before October 1, 2002, is the rate stated in the following table:

Training | Monthly rate
First six months of training | $487.50
Second six months of training | 357.50
Remaining pursuit of training | 227.50

(Authority: 38 U.S.C. 3015, 3032(c))

(7) The monthly rate of basic educational assistance payable to a veteran for pursuit of apprenticeship or other on-the-job training that occurs after September 30, 2002, and before October 1, 2003, is the rate stated in the following table:

Training | Monthly rate
First six months of training | $549.00
Second six months of training | 402.00
Remaining pursuit of training | 256.20

(Authority: 38 U.S.C. 3015, 3032(c))

(8) The monthly rate of basic educational assistance payable to a veteran for pursuit of apprenticeship or other on-the-job training that occurs after September 30, 2003, and before October 1, 2004, is the rate stated in the following table:

Training | Monthly rate
First six months of training | $600.00
Second six months of training | 440.00
Remaining pursuit of training | 280.00

(Authority: 38 U.S.C. 3015, 3032(c))

(9) The monthly rate of basic educational assistance payable to a veteran for pursuit of a cooperative course is:

(i) $546.00 for training that occurs after September 30, 2001, and before January 1, 2002;

(ii) $650.00 for training that occurs after December 31, 2001, and before October 1, 2002;

(iii) $732.00 for training that occurs after September 30, 2002, and before October 1, 2003; and

(iv) $800.00 for training that occurs after September 30, 2003, and before October 1, 2004.

(Authority: 38 U.S.C. 3015)

* * * * *

8. In § 21.7137, the section heading and paragraphs (a) and (c)(2) are revised to read as follows:

§ 21.7137 Rates of payment of basic educational assistance for individuals with remaining entitlement under 38 U.S.C. chapter 34.

(a) Minimum rates. (1) Except as elsewhere provided in this section, the monthly rate of basic educational assistance for training that occurs after September 30, 2001, and before January 1, 2002, is the rate stated in the following table:

Training | Monthly rate: No dependents | Monthly rate: One dependent | Monthly rate: Two dependents | Monthly rate: Additional for each additional dependent
Full time | $860.00 | $896.00 | $927.00 | $16.00
¾ time | 645.50 | 672.00 | 695.50 | 12.00
½ time | 430.00 | 448.00 | 463.50 | 8.50
Less than ½ but more than ¼ time | 430.00 | 430.00 | 430.00 | 0
¼ time or less | 215.00 | 215.00 | 215.00 | 0

(Authority: 38 U.S.C. 3015)

(2) Except as elsewhere provided in this section, the monthly rate of basic educational assistance for training that occurs after December 31, 2001, and before October 1, 2002, is the rate stated in the following table:

Training | Monthly rate: No dependents | Monthly rate: One dependent | Monthly rate: Two dependents | Monthly rate: Additional for each additional dependent
Full time | $988.00 | $1024.00 | $1055.00 | $16.00
¾ time | 741.50 | 768.00 | 791.50 | 12.00
½ time | 494.00 | 512.00 | 527.50 | 8.50
Less than ½ but more than ¼ time | 494.00 | 494.00 | 494.00 | 0
¼ time or less | 247.00 | 247.00 | 247.00 | 0

(Authority: 38 U.S.C. 3015)

(3) Except as elsewhere provided in this section, the monthly rate of basic educational assistance for training that occurs after September 30, 2002, and before October 1, 2003, is the rate stated in the following table:

Training | Monthly rate: No dependents | Monthly rate: One dependent | Monthly rate: Two dependents | Monthly rate: Additional for each additional dependent
Full time | $1088.00 | $1124.00 | $1155.00 | $16.00
¾ time | 816.50 | 843.00 | 866.50 | 12.00
½ time | 544.00 | 562.00 | 577.50 | 8.50
Less than ½ but more than ¼ time | 544.00 | 544.00 | 544.00 | 0
¼ time or less | 272.00 | 272.00 | 272.00 | 0

(Authority: 38 U.S.C. 3015)

(4) Except as elsewhere provided in this section, the monthly rate of basic educational assistance for training that occurs after September 30, 2003, and before October 1, 2004, is the rate stated in the following table:

Training | Monthly rate: No dependents | Monthly rate: One dependent | Monthly rate: Two dependents | Monthly rate: Additional for each additional dependent
Full time | $1173.00 | $1209.00 | $1240.00 | $16.00
¾ time | 880.25 | 906.75 | 930.25 | 12.00
½ time | 586.50 | 604.50 | 620.00 | 8.50
Less than ½ but more than ¼ time | 586.50 | 586.50 | 586.50 | 0
¼ time or less | 293.25 | 293.25 | 293.25 | 0

(Authority: 38 U.S.C. 3015)

(5) For veterans pursuing apprenticeship or other on-the-job training, the monthly rate of basic educational assistance for training that occurs after September 30, 2001, and before January 1, 2002, is the rate stated in the following table:

Training period | Monthly rate: No dependents | Monthly rate: One dependent | Monthly rate: Two dependents | Monthly rate: Additional for each additional dependent
1st six months of pursuit of program | $606.75 | $619.13 | $630.00 | $5.25
2nd six months of pursuit of program | 425.98 | 435.33 | 443.03 | 3.85
3rd six months of pursuit of program | 259.00 | 265.13 | 269.85 | 2.45
Remaining pursuit of program | 247.10 | 252.88 | 258.13 | 2.45

(Authority: 38 U.S.C. 3015)

(6) For veterans pursuing apprenticeship or other on-the-job training, the monthly rate of basic educational assistance for training that occurs after December 31, 2001, and before October 1, 2002, is the rate stated in the following table:

Training period | Monthly rate: No dependents | Monthly rate: One dependent | Monthly rate: Two dependents | Monthly rate: Additional for each additional dependent
1st six months of pursuit of program | $702.75 | $715.13 | $726.00 | $5.25
2nd six months of pursuit of program | 496.38 | 505.73 | 513.43 | 3.85
3rd six months of pursuit of program | 303.80 | 309.93 | 314.65 | 2.45
Remaining pursuit of program | 291.90 | 297.68 | 302.93 | 2.45

(Authority: 38 U.S.C. 3015)

(7) For veterans pursuing apprenticeship or other on-the-job training, the monthly rate of basic educational assistance for training that occurs after September 30, 2002, and before October 1, 2003, is the rate stated in the following table:

Training | Monthly rate: No dependents | Monthly rate: One dependent | Monthly rate: Two dependents | Monthly rate: Additional for each additional dependent
1st six months of pursuit of program | $777.75 | $790.13 | $801.00 | $5.25
2nd six months of pursuit of program | 551.38 | 560.73 | 568.43 | 3.85
3rd six months of pursuit of program | 338.80 | 344.93 | 349.65 | 2.45
Remaining pursuit of program | 326.90 | 332.68 | 337.93 | 2.45

(Authority: 38 U.S.C. 3015)

(8) For veterans pursuing apprenticeship or other on-the-job training, the monthly rate of basic educational assistance for training that occurs after September 30, 2003, and before October 1, 2004, is the rate stated in the following table:

Training | Monthly rate: No dependents | Monthly rate: One dependent | Monthly rate: Two dependents | Monthly rate: Additional for each additional dependent
1st six months of pursuit of program | $841.50 | $853.88 | $864.75 | $5.25
2nd six months of pursuit of program | 598.13 | 607.48 | 615.18 | 3.85
3rd six months of pursuit of program | 368.55 | 374.68 | 379.40 | 2.45
Remaining pursuit of program | 356.65 | 362.43 | 367.68 | 2.45

(Authority: 38 U.S.C. 3015)

(9) The monthly rate of basic educational assistance payable to a veteran who is pursuing a cooperative course is the rate stated in the following table:

Training period | Monthly rate: No dependents | Monthly rate: One dependent | Monthly rate: Two dependents | Monthly rate: Additional for each additional dependent
Oct. 1, 2001-Dec. 31, 2001 | $860.00 | $896.00 | $927.00 | $16.00
Jan. 1, 2002-Sept. 30, 2002 | 988.00 | 1024.00 | 1055.00 | 16.00
Oct. 1, 2002-Sept. 30, 2003 | 1088.00 | 1124.00 | 1155.00 | 16.00
Oct. 1, 2003-Sept. 30, 2004 | 1173.00 | 1209.00 | 1240.00 | 16.00

(Authority: 38 U.S.C. 3015)

* * * * *

(c) * * *

(2)(i) The following monthly rates for training that occurs after September 30, 2001, and before January 1, 2002—

(A) $860.00 for full-time training;

(B) $645.50 for three-quarter-time training;

(C) $430.00 for one-half-time training and training that is less than one-half but more than one-quarter-time training; and

(D) $215.00 for one-quarter-time training.

(Authority: 38 U.S.C. 3015)

(ii) The following monthly rates for training that occurs after December 30, 2001, and before October 1, 2002—

(A) $988.00 for full-time training;

(B) $741.50 for three-quarter-time training;

(C) $494.00 for one-half-time training and training that is less than one-half but more than one-quarter-time training; and

(D) $247.00 for one-quarter-time training.

(iii) The following monthly rates for training that occurs after September 30, 2002, and before October 1, 2003—

(A) $1088.00 for full-time training;

(B) $816.50 for three-quarter-time training;

(C) $544.00 for one-half-time training and training that is less than one-half but more than one-quarter-time training; and

(D) $272.00 for one-quarter-time training.

(iv) The following monthly rates for training that occurs after September 30, 2003, and before October 1, 2004—

(A) $1173.00 for full-time training;

(B) $880.25 for three-quarter-time training;

(C) $586.50 for one-half-time training and training that is less than one-half but more than one-quarter-time training; and

(D) $293.25 for one-quarter-time training.

(Authority: 38 U.S.C. 3015)

* * * * *

[FR Doc. 03-14282 Filed 6-6-03; 8:45 am]

BILLING CODE 8320-01-P